DEPARTMENT OF STATE

[Public Notice: 11133]

Proposal To Extend Cultural Property Agreement Between the United States and Colombia

AGENCY: Department of State.

ACTION: Public notice.

SUMMARY: Proposal to extend the Memorandum of Understanding Between the Government of the United States of America and the Government of the Republic of Colombia Regarding the Imposition of Import Restrictions on Archaeological Material from the Pre-Columbian Cultures and Certain Ecclesiastical Ethnological Material of the Colonial Period of Colombia.

FOR FURTHER INFORMATION CONTACT: Allison Davis, Cultural Heritage Center, Bureau of Educational and Cultural Affairs: 202-632-6307; culprop@state.gov; include “Colombia” in the subject line.

SUPPLEMENTARY INFORMATION: Pursuant to the authority vested in the Assistant Secretary of State for Educational and Cultural Affairs, and pursuant to 19 U.S.C. 2602(f)(1), an extension of the Memorandum of Understanding Between the Government of the United States of America and the Government of the Republic of Colombia Regarding the Imposition of Import Restrictions on Archaeological Material from the Pre-Columbian Cultures and Certain Ecclesiastical Ethnological Material of the Colonial Period of Colombia is hereby proposed.

A copy of the Memorandum of Understanding, the Designated List of categories of material restricted from import into the United States, and related information can be found at the Cultural Heritage Center website: http://culturalheritage.state.gov.

Allison R. Davis,
Executive Director, Cultural Property Advisory Committee, Department of State.

[FR Doc. 2020-12315 Filed 6-5-20; 8:45 am]

BILLING CODE 4710-05-P